ENVIRONMENTAL PROTECTION AGENCY

40 CFR Part 180

[EPA-HQ-OPP-2006-0036; FRL-8062-7]

p-Chlorophenoxyacetic acid, Glyphosate, Difenzoquat, and Hexazinone; Proposed Tolerance Actions

AGENCY: Environmental Protection Agency (EPA).

ACTION: Proposed rule.

SUMMARY: EPA is proposing to revoke certain tolerances for the plant growth regulator p-chlorophenoxyacetic acid and the herbicide hexazinone. Also, EPA is proposing to modify certain tolerances for the plant growth regulator p-chlorophenoxyacetic acid and the herbicides glyphosate, difenzoquat, and hexazinone. In addition, EPA is proposing to establish new tolerances for the herbicides difenzoquat and hexazinone. The regulatory actions proposed in this document are part of the Agency's reregistration program under the Federal Insecticide, Fungicide, and Rodenticide Act (FIFRA), and the tolerance reassessment requirements of the Federal Food, Drug, and Cosmetic Act (FFDCA) section 408(q), as amended by the Food Quality Protection Act (FQPA) of 1996. By law, EPA is required by August 2006 to reassess the tolerances that were in existence on August 2, 1996. No tolerance reassessments will be counted at the time of a final rule because tolerances in existence on August 2, 1996 that are associated with actions proposed herein were previously counted as reassessed at the time of the completed Reregistration Eligibility Decision (RED), Report of the FQPA Tolerance Reassessment Progress and Risk Management Decision (TRED), or Federal Register action.

DATES: Comments must be received on or before August 7, 2006.

ADDRESSES: EPA has established a docket for this action under docket identification (ID) number EPA-HQ-OPP-2006-0036. All documents in the docket are listed in the index for the docket. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Building), 2777 S. Crystal Drive, Arlington, VA. The Docket Facility is open from 8:30 a.m. to 4 p.m., Monday through Friday, excluding legal holidays. The Docket telephone number is (703) 305-5805.

FOR FURTHER INFORMATION CONTACT: Jane Smith, Special Review and Reregistration Division (7508P), Office of Pesticide Programs, Environmental Protection Agency, 1200 Pennsylvania Ave, NW., Washington, DC 20460-0001; telephone number: (703) 308-0048; e-mail address: smith.jane-scott@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit IIA. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f) if needed. The order would specify data needed and the time frames for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke, remove, modify, and establish specific tolerances for residues of the plant growth regulator p-chlorophenoxyacetic acid and the herbicides glyphosate, difenzoquat, and hexazinone in or on commodities listed in the regulatory text.

EPA is proposing these tolerance actions to implement the tolerance recommendations made during the reregistration and tolerance reassessment processes (including follow-up on canceled or additional uses of pesticides). As part of these processes, EPA is required to determine whether each of the amended tolerances meets the safety standard of the FQPA. The safety finding determination of “reasonable certainty of no harm” is discussed in detail in each RED and report of the FQPA Tolerance Reassessment Progress and Risk Management Decision (TRED) for the active ingredient. REDs and TREDs recommend the implementation of certain tolerance actions, including modifications to reflect current use patterns, meet safety findings, and change commodity names and groupings in accordance with new EPA policy. Printed copies of many REDs and TREDs may be obtained from EPA's National Service Center for Environmental Publications, P.O. Box 42419, Cincinnati, OH 45242-2419, telephone 1-00-490-9198; fax 1-513-489-8695; internet at http://www.epa.gov/ncepihom/ and from the National Technical Information Service, 5285 Port Royal Road, Springfield, VA 22161, telephone 1-800-553-6847 or 703-605-6000; internet at http://www.ntis.gov/. Electronic copies of REDs and TREDs are available on the internet for glyphosate at http://www.epa.gov/pesticides/reregistration/status.htm, and p-chlorophenoxyacetic acid, difenzoquat, and hexazinone in public dockets EPA-HQ-OPP-2003-0124, EPA-HQ-OPP-2002-0097, and EPA-HQ-OPP-2002-0188, respectively, at http://www.regulations.gov.

The selection of an individual tolerance level is based on crop field residue studies designed to produce the maximum residues under the existing or proposed product label. Generally, the level selected for a tolerance is a value slightly above the maximum residue found in such studies. The evaluation of whether a tolerance is safe is a separate inquiry. EPA recommends the raising of a tolerance when data show that (1) lawful use (sometimes through a label change) may result in a higher residue level on the commodity, and (2) the tolerance remains safe, notwithstanding increased residue level allowed under the tolerance. In REDs, Chapter IV on “Risk management, Reregistration, and Tolerance Reassessment” typically describes the regulatory position, FQPA assessment, cumulative safety determination, determination of safety for U.S. general population, and safety for infants and children. In particular, the human health risk assessment document which supports the RED describes risk exposure estimates and whether the Agency has concerns. In TREDs, the Agency discusses its evaluation of the dietary risk associated with the active ingredient and whether it can determine that there is a reasonable certainty (with appropriate mitigation) that no harm to any population subgroup will result from aggregate exposure.

Explanations for proposed modifications in tolerances can be found in the RED and TRED document and in more detail in the Residue Chemistry Chapter document which supports the RED and TRED. Copies of the Residue Chemistry Chapter documents are found in the Administrative Record and paper copies for difenzoquat and hexazinone can be found under their respective public docket numbers, identified above. Paper copies for p-chlorophenoxyacetic acid and glyphosate are available in the public docket for this rule. Electronic copies are available through EPA's electronic public docket and comment system, regulations.gov at http://www.regulations.gov/. You may search for this rule under docket number EPA-HQ-OPP-2006-0036, or for an individual chemical under its respective docket number, then click on that docket number to view its contents.

The aggregate exposures and risks are not of concern for the above mentioned pesticide active ingredients based upon the data identified in the RED or TRED which lists the submitted studies that the Agency found acceptable.

EPA has found that the tolerances that are proposed in this document to be established or modified, are safe, i.e., that there is a reasonable certainty that no harm will result to infants and children from aggregate exposure to the pesticide chemical residues, in accordance with section 408(b)(2)(C). (Note that changes to tolerance nomenclature do not constitute modifications of tolerances). These findings are discussed in detail in each RED or TRED. The references are available for inspection as described in this document under SUPPLEMENTARY INFORMATION.

In addition, EPA is proposing to revoke certain specific tolerances because either they are no longer needed or are associated with food uses that are no longer registered under FIFRA. Those instances where registrations were canceled were because the registrant failed to pay the required maintenance fee and/or the registrant voluntarily canceled one or more registered uses of the pesticide. It is EPA's general practice to propose revocation of those tolerances for residues of pesticide active ingredients on crop uses for which there are no active registrations under FIFRA, unless any person in comments on the proposal indicates a need for the tolerance to cover residues in or on imported commodities or domestic commodities legally treated.

1. p-Chlorophenoxyacetic acid. The Agency canceled the last registered uses for p-chlorophenoxyacetic acid on tomato in May 1995. Therefore, the Agency is proposing to revoke the tolerance in 40 CFR 180.202(a)(1) for combined residues of the plant regulator p-chlorophenoxyacetic acid and its metabolite p-chlorophenol in or on tomato, remove paragraph (a)(1), and recodify existing paragraph (a)(2) as paragraph (a).

Based on the available data that indicate combined residues of p-chlorophenoxyacetic acid and its metabolite p-chlorophenol in or on mung bean sprouts will not exceed 0.2 ppm, the Agency determined that the tolerance should be lowered to 0.2 ppm. Therefore, EPA is proposing to decrease the tolerance for combined residues of the plant regulator p-chlorophenoxyacetic acid and its metabolite p-chlorophenol to inhibit embryonic root development in or on bean, mung, sprouts from 2.0 to 0.2 ppm in newly recodified 40 CFR 180.202(a).

2. Glyphosate. A RED was completed on glyphosate in September 1993 before the passage of the FQPA. On April 11, 1997 (62 FR 17723) (FRL-5598-6) EPA published a notice in the Federal Register which established new uses for glyphosate. Existing tolerances for glyphosate in 40 CFR 180.364 were considered by the Agency to be reassessed at that time. Although the glyphosate RED recommended revocation of tolerances based on no registered uses for the following food commodities; bread fruit, canistel, cherimoya, cacao bean, date, marmaladebox (formerly genip), jaboticaba, jackfruit, persimmon, sapote (black and white), soursop, and tamarind at 0.2 ppm and coconut at 0.1 ppm; these food uses are currently active and have existed for years since the RED. Canistel, cacao bean, jackfruit, and sapote have existed since 2003; bread fruit, cherimoya, marmaladebox, jaboticaba, soursop, and tamarind since 2000, and persimmon and dates since 1998. Therefore, EPA will maintain these tolerances in 40 CFR 180.364.

Data on glyphosate residues in or on both tea leaves and instant tea were available at the time of the RED. Nevertheless, instant tea was also recommended for revocation in the RED because the Agency at that time did not consider it to be a significant item in the daily dietary risk assessment of the population of the United States from pesticide use on that processed commodity. However, instant tea is now considered to be a processed commodity according to the “Table 1.—Raw Agricultural and Processed Commodities and Feedstuffs Derived from Crops” which is found in Residue Chemistry Test Guidelines OPPTS 860.1000 dated August 1996, available at http://www.epa.gov/opptsfrs/publications/OPPTS_Harmonized/860_Residue_Chemistry_Test_Guidelines/Series/. As stated above, existing tolerances for glyphosate in 40 CFR 180.364, including instant tea, were reassessed at the time of new use approvals on (April 11, 1997, 62 FR 17723). Therefore, EPA will maintain the tolerance on “tea, instant” in 40 CFR 180.364.

In the RED, it was recommended that tolerances be established for potato chips, granules, flakes and processed potato waste; however, the quality of the data for potato chips, granules and processed potato waste was in question. In 1996 new residue data on potatoes and processed potato foods and feeds were provided to the Agency. These data indicated that at the 10x rate residues were <0.01 ppm glyphosate in or on fresh potato chips, dry peel, and wet peel; and 0.02 - 0.049 ppm glyphosate on fresh flakes. Based on these data the Agency has determined that the established tolerance of 0.2 ppm for “vegetable, root and tuber, group 1, except sugar beet” is sufficient to cover all measured and anticipated residues of glyphosate in raw tubers and in potato peels, chips, flakes or granules. Therefore, tolerances for potato chips, granules, flakes and processed potato waste are no longer needed.

In an effort to achieve compatibility with Codex Maximum Residue Levels (MRLs), EPA is proposing to decrease the tolerance in 40 CFR 180.364 (a) for residues of glyphosate -(phosphonomethyl)glycine resulting from the application of glyphosate, the isopropylamine salt of glyphosate, the ethanolamine salt of glyphosate, the ammonium salt of glyphosate, and the potassium salt of glyphosate in or on kiwifruit from 0.2 ppm to 0.1 ppm.

In an effort to achieve compatibility with Codex MRLs, EPA is proposing to increase the tolerances in 40 CFR 180.364 (a) for residues of glyphosate -(phosphonomethyl)glycine resulting from the application of glyphosate, the isopropylamine salt of glyphosate, the ethanolamine salt of glyphosate, the ammonium salt of glyphosate, and the potassium salt of glyphosate in or on cattle, liver and hog, liver from 0.5 ppm to 1.0 ppm. The Agency has determined that the increased tolerances are safe; i.e., there is a reasonable certainty that no harm will result from aggregate exposure to the pesticide chemical residue.

EPA is proposing to revise commodity terminology in 40 CFR 180.364 to conform to current Agency practice as follows: Hop, dried cone to hop, dried cones; wheat, milling fractions, (except flour) to wheat, bran, wheat, middlings, and wheat, shorts; grain, cereal, stover and straw, group to grain, cereal, forage, fodder and straw, group 16; vegetable, bulb, group to vegetable, bulb, group 3; vegetable, foliage of legume except soybean, subgroup 7A to vegetable, foliage of legume, subgroup 7A, except soybean; vegetable, legume, group 6 except soybean to vegetable, legume, group 6, except soybean; vegetable, fruiting, group to vegetable, fruiting, group 8; vegetable, leafy, group to vegetable, leafy, group 4, and vegetable, leaves of root and tuber, group (except sugar beet tops) to vegetable, leaves of root and tuber, group 2, except sugar beet tops.

The tolerance reassessment in the RED proposed that alfalfa (fresh and hay), clover and other non-grass animal feeds be consolidated in the corresponding crop group “animal feed, nongrass, group 18” at 100 ppm. Since the RED was published, the “animal feed, nongrass, group 18” was established; however, due to changes in the use patterns and grazing intervals the corresponding tolerance level is 400 ppm. Also, the existing and conflicting tolerances for “alfalfa, hay” (400 ppm) and “alfalfa, forage” (175 ppm), respectively, should be removed since the existing tolerance on “animal feed, nongrass, group 18” (400 ppm) covers these animal feed items. This was originally proposed by the EPA June 18, 2003 (68 FR 36472) (FRL-7308-8). Therefore, EPA is proposing to remove the tolerances in 40 CFR 180.364 on alfalfa, forage at 175 ppm and alfalfa, hay at 400 ppm, because they are no longer needed and their commodity uses are covered by the existing group tolerance.

The RED recommended that a crop group tolerance for, “grass forage, fodder and hay, group 17” be established at 200 ppm. Since then, the tolerance “grass forage, fodder and hay, group 17” was established and increased to 300 ppm on September 27, 2002 due to changes in the use patterns and pre-grazing intervals (67 FR 60934, FRL-7200-2), and (65 FR 57957, FRL-6746-6).

Since the 1993 RED tolerance recommendations, multiple tolerance actions have occurred to affect those original recommendations. The tolerance levels and commodity names have changed due to commodity terminology updates, crop group composition changes, adjustments in use patterns or intervals of use, additional data submissions, and changes in the tolerance expression in 40 CFR 180.364 for glyphosate (60 FR 45062, FRL-4962-1), (61 FR 7729, FRL-5351-5), (61 FR 15192, FRL-5351-1), (62 FR 17723, FRL-5598-6), (63 FR 54058, FRL-6036-1), (64 FR 18360, FRL-6073-5), (64 FR 41818, FRL-6096-2), (64 FR 66108, FRL-6390-5), (65 FR 57957, FRL-6746-6), (67 FR 60934, FRL-7200-2), (68 FR 36472, FRL-7308-8), (68 FR 39460, FRL-7316-5, (69 FR 65081, FRL-7683-9), and (70 FR 7861, FRL-7697-7).

3. Difenzoquat. Based on available field trial data that indicate residues of difenzoquat in or on barley grain were non-detectable (<0.05 ppm), barley straw were as high as 4.0 ppm, and wheat straw were as high as 4.2 ppm, the Agency determined that these tolerances should be decreased to 0.05 ppm, 5.0 ppm, and 5.0 ppm, respectively. Therefore, EPA is proposing to decrease the tolerance in 40 CFR 180.369 for residues of difenzoquat in or on barley, grain from 0.2 to 0.05 ppm; barley, straw from 20 to 5.0 ppm; and wheat, straw from 20 to 5.0 ppm.

Processing data for wheat grain and aspirated grain fractions indicate that residues of difenzoquat concentrated 4-fold in wheat bran and 4.6-fold in shorts, and minimal concentration occurred in middlings. Residues did not concentrate in flour. The wheat processing data are also applicable to barley. Based on those concentration factors and the reassessed tolerance of 0.05 ppm for wheat grain, the Agency determined that tolerances for both wheat bran and shorts should be established at 0.25 ppm. Therefore, EPA is proposing to establish tolerances in 40 CFR 180.369 at 0.25 ppm for residues of difenzoquat in or on wheat, bran and wheat, shorts. In addition, because the wheat processing data are translated to barley, EPA is proposing to establish a tolerance in 40 CFR 180.369 for residues of difenzoquat in or on barley, bran at 0.25 ppm.

4. Hexazinone. The TRED mentions the need for additional method validation of Method AMR 3783-6 for determining hexazinone (parent and metabolite) levels in milk and livestock tissues. The method has undergone successful independent validation and radiovalidation studies. Additional validation by EPA laboratories is not required. The method is considered adequate for enforcement purposes for residues of hexazinone (and metabolites) in milk and livestock tissues.

According to the TRED, the tolerance expression, which is currently expressed as hexazinone and its metabolites (calculated as hexazinone) in 40 CFR 180.396(a) for plant, animal, and milk commodities for general tolerances, and in plant commodities for regional tolerances in 40 CFR 180.396(c), should be modified to include all the specific metabolites in plants, animal tissue and milk. Consequently, EPA is proposing to separate and recodify plant, animal, and milk tolerances from 180.396(a) to (a)(1), (a)(2), and (a)(3), respectively. Therefore, EPA is proposing that the tolerance expressions in 40 CFR 180.396 read as follows:

(a)(1) General. Tolerances are established for the combined residues of hexazinone (3-cyclohexyl-6-(dimethylamino)-1-methyl-1,3,5-triazine-2,4-(1H,3H)-dione and its plant metabolites; A [3-(4-hydroxycyclohexyl)-6-(dimethylamino)-1-methyl-1,3,5-triazine-2,4(1H,3H)-dione], B [3-cyclohexyl-6-(methylamino)-1-methyl-1,3,5-triazine-2,4-(1H,3H)-dione], C [3-(4-hydroxycyclohexyl)-6-(methylamino)-1-methyl-1,3,5-triazine-2,4-(1H,3H)-dione], D [3-cyclohexyl)-1-methyl-1,3,5-triazine-2,4,6-(1H,3H,5H)-trione], and E [3-(4-hydroxycyclohexyl)-1-methyl-1,3,5-triazine-2,4,6-(1H,3H,5H)-trione] (calculated as hexazinone) in the following food commodities:

(a)(2) Tolerances are established for the combined residues of hexazinone (3-cyclohexyl-6-(dimethylamino)-1-methyl-1,3,5-triazine-2,4-(1H,3H)-dione and its animal tissue metabolites; B [3-cyclohexyl-6-(methylamino)-1-methyl-1,3,5-triazine-2,4-(1H,3H)-dione] and F [3-cyclohexyl-6-amino-1-methyl-1,3,5-triazine-2,4-(1H,3H)-dione (calculated as hexazinone) in the following food commodities:

(a)(3) Tolerances are established for the combined residues of hexazinone (3-cyclohexyl-6-(dimethylamino)-1-methyl-1,3,5-triazine-2,4-(1H,3H)-dione and its metabolites; B [3-cyclohexyl-6-(methylamino)-1-methyl-1,3,5-triazine-2,4-(1H,3H)-dione], C [3-(4-hydroxycyclohexyl)-6-(methylamino)-1-methyl-1,3,5-triazine-2,4-(1H,3H)-dione] , C-1 [3-(2-hydroxycyclohexyl)-6-(methylamino)-1-methyl-1,3,5-triazine-2,4(1H,3H)-dione], C-2 [3-(3-hydroxycyclohexyl)-6-(methylamino)-1-methyl-1,3,5-triazine-2,4(1H,3H)-dione] and F (calculated as hexazinone) in milk: and

(c) Tolerances with regional registrations. Tolerances with regional registration, as defined in §180.1(n) and which excludes use of hexazinone on sugarcane in Florida, are established for the combined residues of hexazinone (3-cyclohexyl-6-(dimethylamino)-1-methyl-1,3,5-triazine-2,4-(1H,3H)-dione and its plant metabolites; A [3-(4-hydroxycyclohexyl)-6-(dimethylamino)-1-methyl-1,3,5-triazine-2,4(1H,3H)-dione], B [3-cyclohexyl-6-(methylamino)-1-methyl-1,3,5-triazine-2,4-(1H,3H)-dione], C [3-(4-hydroxycyclohexyl)-6-(methylamino)-1-methyl-1,3,5-triazine-2,4-(1H,3H)-dione], D [3-cyclohexyl)-1-methyl-1,3,5-triazine-2,4,6-(1H,3H,5H)-trione], and E [3-(4-hydroxycyclohexyl)-1-methyl-1,3,5-triazine-2,4,6-(1H,3H,5H)-trione] (calculated as hexazinone) in the following commodities.

Based on available ruminant feeding data at exaggerated pesticide dose levels and the maximum theoretical dietary burden, EPA determined that there is no reasonable expectation of finite hexazinone residues of concern in livestock from treated feed. At an exaggerated (62.5x) feeding level, residues of hexazinone and its metabolites were non-detectable; i.e., were below the combined limit of quantitation (LOQs) of 0.1 ppm in fat. Therefore, the Agency determined that tolerances for fat of cattle, goats, hogs, horses, and sheep are no longer needed under 40 CFR 180.6(a)(3). As a result, EPA is proposing to revoke the tolerances in 40 CFR 180.396 for combined hexazinone residues of concern in or on cattle, fat; goat, fat; hog, fat; horse, fat; and sheep, fat.

After correction of the exaggerated feeding dose (62.5x) for cattle, goats, horses, and sheep, the Agency determined that residue levels of hexazinone and its metabolites ranged as high as 0.09 ppm (just below the sum of the LOQs or 0.1 ppm), and therefore meat and meat byproduct tolerances should be maintained in newly recodified 40 CFR 180.396(a)(2) at 0.1 ppm for cattle, goats, horses, and sheep.

After correction of the exaggerated feeding dose (640x) for hogs, the Agency determined that residue levels of hexazinone and its metabolites were non-detectable; i.e., were below the combined LOQs of 0.1 ppm in tissue. Therefore, the tolerances on hog meat and meat byproducts are no longer needed under 40 CFR 180.6(a)(3). As a result of the available ruminant feeding data and the enforcement method, EPA is proposing to revoke the tolerances in 40 CFR 180.396 for combined hexazinone residues of concern in or on hog, meat and hog, meat byproducts.

In addition, after correction of the exaggerated feeding dose (62.5x) for cattle, the Agency determined that residue levels of hexazinone and its metabolites in whole milk ranged as high as 0.164 ppm. Based on the enforcement method, the sum of the combined LOQs for hexazinone and its metabolites, EPA is proposing to increase the tolerance in the newly recodified 40 CFR 180.396(a)(3) for the combined hexazinone residues of concern in or on milk from 0.1 to 0.2 ppm. The Agency determined that the increased tolerance is safe; i.e., there is a reasonable certainty that no harm will result from aggregate exposure to the pesticide chemical residue.

Available data indicate combined residues of hexazinone and its regulated metabolites were <0.3 ppm in or on blueberries and <0.35 ppm in or on pineapples. Based on the combined LOQs (0.55 ppm) of the enforcement method for parent plus metabolites, EPA is proposing to increase the tolerances in newly recodified 40 CFR 180.396(a)(1) for combined hexazinone residues of concern in or on blueberry from 0.2 to 0.6 ppm and pineapple (whole fruit) from 0.5 to 0.6 ppm, and revise pineapple (whole fruit) to pineapple. The Agency determined that the increased tolerance is safe; i.e., there is a reasonable certainty that no harm will result from aggregate exposure to the pesticide chemical residue.

Available data indicate combined residues of hexazinone and its regulated metabolites were <0.35 ppm in or on sugarcane. Based on the combined LOQs (0.55 ppm) of the enforcement method for parent plus metabolites, the Agency determined that the tolerance for sugarcane, cane should be increased to 0.6 ppm. Also, based on available sugarcane processing data, the Agency determined that residues of hexazinone and its metabolites concentrated 32-fold to final (blackstrap) molasses, the form of molasses typically fed to livestock. After adjusting for the 2.0x degree of exaggeration used in the processing study, the Agency determined that while the calculated residue was greater than the recommended tolerance for the raw agricultural commodity (sugarcane, cane), it was below the current tolerance level for sugarcane molasses and should be decreased to 4.0 ppm. Therefore, EPA is proposing to increase the tolerance for sugarcane, cane and decrease the tolerance for sugarcane, molasses with regional registration in 40 CFR 180.396(c), as defined in 180.1(n) and which excludes use of hexazinone on sugarcane in Florida, for combined hexazinone residues of concern in or on sugarcane, cane from 0.2 to 0.6 ppm and sugarcane molasses from 5.0 to 4.0 ppm, and revise sugarcane molasses to sugarcane, molasses. The Agency determined that the increased tolerance is safe; i.e., there is a reasonable certainty that no harm will result from aggregate exposure to the pesticide chemical residue.

Based on the available residue data, the TRED recommended decreasing the tolerance in/on alfalfa hay contingent upon previously requested label revisions by the registrant related to the pre-harvest and pre-grazing intervals. The tolerance decrease is solely a reflection of changes in the use pattern; the decrease is not required for the tolerance to be safe. The Agency is in the process of following up with the registrant and will address the tolerance modification in a future Federal Register notice.

Based on available data that indicate combined residues of hexazinone and its regulated metabolites as high as 1.46 ppm in or on alfalfa seed, the Agency determined that a tolerance should be established at 2.0 ppm. Therefore, EPA is proposing to establish a tolerance in newly recodified 40 CFR 180.396(a)(1) for combined hexazinone residues of concern in or on alfalfa, seed at 2.0 ppm.

In addition, EPA is proposing to revise commodity terminology to conform to current Agency practice as follows: In 40 CFR 180.396(a) alfalfa green forage to alfalfa, forage; grass, range to grass, forage; and grass, pasture to grass, hay.

B. What is the Agency's Authority for Taking this Action?

A “tolerance” represents the maximum level for residues of pesticide chemicals legally allowed in or on raw agricultural commodities and processed foods. Section 408 of FFDCA, 21 U.S.C. 346a, as amended by the FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore, “adulterated” under section 402(a) of the FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA is proposing these tolerance actions to implement the tolerance recommendations made during the reregistration and tolerance reassessment processes (including follow-up on canceled or additional uses of pesticides). As part of these processes, EPA is required to determine whether each of the amended tolerances meets the safety standard of the FQPA. The safety finding determination is discussed in detail in each Post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued TREDs for p-chlorophenoxyacetic acid, difenzoquat, and hexazinone. Glyphosate tolerances were reassessed post-FQPA as part of the Agency's determinations on April 11, 1997 (62 FR 17723) to establish new glyphosate uses and therefore a TRED to reassess its tolerances was not needed. All of these active ingredients had REDs which were completed prior to FQPA. REDs and TREDs contain the Agency's evaluation of the data base for these pesticides, including requirements for additional data on the active ingredients to confirm the potential human health and environmental risk assessments associated with current product uses, and in REDs state conditions under which these uses and products will be eligible for reregistration. The REDs and TREDs recommended the establishment, modification, and/or revocation of specific tolerances. RED and TRED recommendations such as establishing or modifying tolerances, and in some cases revoking tolerances, are the result of assessment under the FQPA standard of “reasonable certainty of no harm.” However, tolerance revocations recommended in REDs and TREDs that are proposed in this document do not need such assessment when the tolerances are no longer necessary.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of the FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

When EPA establishes tolerances for pesticide residues in or on raw agricultural commodities, consideration must be given to the possible residues of those chemicals in meat, milk, poultry, and/or eggs produced by animals that are fed agricultural products (for example, grain or hay) containing pesticides residues (40 CFR 180.6). When considering this possibility, EPA can conclude that:

1. Finite residues will exist in meat, milk, poultry, and/or eggs.

2. There is a reasonable expectation that finite residues will exist.

3. There is a reasonable expectation that finite residues will not exist. If there is no reasonable expectation of finite pesticide residues in or on meat, milk, poultry, or eggs, tolerances do not need to be established for these commodities (40 CFR 180.6(b) and (c)).

EPA has evaluated certain specific meat, milk, poultry, and egg tolerances proposed for revocation in this rule and has concluded that there is no reasonable expectation of finite pesticide residues of concern in or on those commodities.

C. When do These Actions Become Effective?

EPA is proposing that these revocations, modifications, establishments of tolerances, and commodity terminology revisions become effective on the date of publication of the final rule in the Federal Register. For this rule, proposed revocations will affect tolerances for uses which have been canceled for many years or are no longer needed. The Agency believes that treated commodities have had sufficient time for passage through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this section, any residues of these pesticides in or on such food shall not render the food adulterated so long as it is shown to the satisfaction of the Food and Drug Administration that: (1) The residue is present as the result of an application or use of the pesticide at a time and in a manner that was lawful under FIFRA, and (2) the residue does not exceed the level that was authorized at the time of the application or use to be present on the food under a tolerance or exemption from tolerance. Evidence to show that food was lawfully treated may include records that verify the dates when the pesticide was applied to such food.

D. What Is the Contribution to Tolerance Reassessment?

By law, EPA is required by August 3, 2006 to reassess the tolerances in existence on August 2, 1996. As of April 19, 2006, EPA has reassessed over 8,070 tolerances. Regarding tolerances mentioned in this proposed rule, tolerances in existence as of August 2, 1996 were previously counted as reassessed at the time of the signature completion of a post-FQPA RED or TRED for each active ingredient. Therefore, no further tolerance reassessments would be counted toward the August 2006 review deadline.

III. Are The Proposed Actions Consistent with International Obligations?

The tolerance revocations in this proposal are not discriminatory and are designed to ensure that both domestically-produced and imported foods meet the food safety standard established by the FFDCA. The same food safety standards apply to domestically produced and imported foods.

EPA is working to ensure that the U.S. tolerance reassessment program under FQPA does not disrupt international trade. EPA considers Codex MRLs in setting U.S. tolerances and in reassessing them. MRLs are established by the Codex Committee on Pesticide Residues, a committee within the Codex Alimentarius Commission, an international organization formed to promote the coordination of international food standards. It is EPA's policy to harmonize U.S. tolerances with Codex MRLs to the extent possible, provided that the MRLs achieve the level of protection required under FFDCA. EPA's effort to harmonize with Codex MRLs is summarized in the tolerance reassessment section of individual Reregistration Eligibility Decision documents. EPA has developed guidance concerning submissions for import tolerance support in the Federal Register of June 1, 2000 (65 FR 35069) (FRL-6559-3). This guidance will be made available to interested persons. Electronic copies are available on the internet at http://www.epa.gov/. On the Home Page select “Laws, Regulations, and Dockets,” then select “Regulations and Proposed Rules” and then look up the entry for this document under “Federal Register”—Environmental Documents.” You can also go directly to the “Federal Register” listings at http://www.epa.gov/fedrgstr/.

IV. Statutory and Executive Order Reviews

In this proposed rule, EPA is proposing to establish tolerances under FFDCA section 408(e), and also modify and revoke specific tolerances established under FFDCA section 408. The Office of Management and Budget (OMB) has exempted these types of actions (i.e., establishment and modification of a tolerance and tolerance revocation for which extraordinary circumstances do not exist) from review under Executive Order 12866,entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020), respectively, and were provided to the Chief Counsel for Advocacy of the Small Business Administration. Taking into account this analysis, and available information concerning the pesticides listed in this proposed rule, the Agency hereby certifies that this proposed action will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticide named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132,entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: May 30, 2006.
James Jones,
Director, Office of Pesticide Programs.

Therefore, it is proposed that 40 CFR chapter I be amended as follows:

PART 180—[AMENDED]

1. The authority citation for part 180 continues to read as follows:

Authority: 21 U.S.C. 321(q), 346a and 371.

2. In §180.202, paragraph (a) is revised to read as follows:

§ 180.202 p-Chlorophenoxyacetic acid; tolerances for residues.

(a) General. A tolerance is established for the combined residues of the plant regulator p-chlorophenoxyacetic acid and its metabolite p-chlorophenol to inhibit embryonic root development in or on the following food commodity:

Commodity | Parts per million
Bean, mung, sprouts | 0.2

* * * * *

3. In §180.364, the table in paragraph (a) is revised to read as follows:

§ 180.364 Glyphosate; tolerances for residues.

(a) General. * * *

Commodity | Parts per million
Acerola | 0.2
Alfalfa, seed | 0.5
Almond, hulls | 25
Animal feed, nongrass, group 18 | 400
Aloe vera | 0.5
Ambarella | 0.2
Artichoke, globe | 0.2
Asparagus | 0.5
Atemoya | 0.2
Avocado | 0.2
Bamboo, shoots | 0.2
Banana | 0.2
Barley, bran | 30
Barley, grain | 20
Beet, sugar, dried pulp | 25
Beet, sugar, roots | 10
Beet, sugar, tops | 10
Berry group 13 | 0.2
Betelnut | 1.0
Biriba | 0.2
Blimbe | 0.2
Borage, seed | 0.1
Breadfruit | 0.2
Cactus, fruit | 0.5
Cactus, pads | 0.5
Canistel | 0.2
Canola, meal | 15
Canola, seed | 10
Cattle, kidney | 4.0
Cattle, liver | 1.0
Chaya | 1.0
Cherimoya | 0.2
Citrus, dried pulp | 1.5
Cacao bean | 0.2
Coconut | 0.1
Coffee, bean | 1.0
Corn, field, forage | 6.0
Corn, field, grain | 1.0
Cotton, gin byproducts | 175
Cotton, undelinted seed | 35
Cranberry | 0.2
Crambe, seed | 0.1
Custard apple | 0.2
Date | 0.2
Dokudami | 2.0
Durian | 0.2
Egg | 0.05
Epazote | 1.3
Feijoa | 0.2
Fig | 0.2
Fish | 0.25
Flax, meal | 8.0
Flax, seed | 4.0
Fruit, citrus, group 10 | 0.5
Fruit, pome, group 11 | 0.2
Fruit, stone, group 12 | 0.2
Galangal, root | 0.2
Ginger, white, flower | 0.2
Goat, kidney | 4.0
Goat, liver | 0.5
Gourd, buffalo, seed | 0.1
Governor's plum | 0.2
Gow kee, leaves | 0.2
Grain, aspirated fractions | 100.0
Grain, cereal, forage, fodder and straw, group 16 | 100
Grain, cereal, group 15, except barley, field corn, grain sorghum, oat and wheat | 0.1
Grape | 0.2
Grass, forage, fodder and hay, group 17 | 300
Guava | 0.2
Herbs subgroup 19A | 0.2
Hog, kidney | 4.0
Hog, liver | 1.0
Hop, dried cones | 7.0
Horse, kidney | 4.0
Horse, liver | 0.5
Ilama | 0.2
Imbe | 0.2
Imbu | 0.2
Jaboticaba | 0.2
Jackfruit | 0.2
Jojoba, seed | 0.1
Juneberry | 0.2
Kava, roots | 0.2
Kenaf, forage | 200
Kiwifruit | 0.1
Lesquerella, seed | 0.1
Leucaena, forage | 200
Lingonberry | 0.2
Longan | 0.2
Lychee | 0.2
Mamey apple | 0.2
Mango | 0.2
Mangosteen | 0.2
Marmaladebox | 0.2
Meadowfoam, seed | 0.1
Mioga, flower | 0.2
Mustard, seed | 0.1
Nut, pine | 1.0
Nut, tree, group 14 | 1.0
Oat, grain | 20
Okra | 0.5
Olive | 0.2
Oregano, Mexican, leaves | 2.0
Palm heart | 0.2
Palm heart, leaves | 0.2
Palm, oil | 0.1
Papaya | 0.2
Papaya, mountain | 0.2
Passionfruit | 0.2
Pawpaw | 0.2
Peanut | 0.1
Peanut, forage | 0.5
Peanut, hay | 0.5
Pepper leaf, fresh leaves | 0.2
Peppermint, tops | 200
Perilla, tops | 1.8
Persimmon | 0.2
Pineapple | 0.1
Pistachio | 1.0
Pomegranate | 0.2
Poultry, meat | 0.1
Poultry, meat byproducts | 1.0
Pulasan | 0.2
Quinoa, grain | 5.0
Rambutan | 0.2
Rapeseed, meal | 15
Rapeseed, seed | 10
Rose apple | 0.2
Safflower, seed | 0.1
Salal | 0.2
Sapodilla | 0.2
Sapote, black | 0.2
Sapote, mamey | 0.2
Sapote, white | 0.2
Sesame, seed | 0.1
Sheep, kidney | 4.0
Sheep, liver | 0.5
Shellfish | 3.0
Sorghum, grain, grain | 15
Soursop | 0.2
Soybean, seed | 20
Soybean, forage | 100
Soybean, hay | 200
Soybean, hulls | 100
Spanish lime | 0.2
Spearmint, tops | 200
Spice subgroup 19B | 7.0
Star apple | 0.2
Starfruit | 0.2
Stevia, dried leaves | 1.0
Strawberry | 0.2
Sugar apple | 0.2
Sugarcane, cane | 2.0
Sugarcane, molasses | 30
Sunflower, seed | 0.1
Surinam cherry | 0.2
Tamarind | 0.2
Tea, dried | 1.0
Tea, instant | 7.0
Teff, grain | 5.0
Ti, leaves | 0.2
Ti, roots | 0.2
Ugli fruit | 0.5
Vegetable, brassica, leafy, group 5 | 0.2
Vegetable, bulb, group 3 | 0.2
Vegetable, cucurbit, group 9 | 0.5
Vegetable, foliage of legume, subgroup 7A, except soybean | 0.2
Vegetable, fruiting, group 8 | 0.1
Vegetable, leafy, group 4 | 0.2
Vegetable, leaves of root and tuber, group 2, except sugar beet tops | 0.2
Vegetable, legume, group 6, except soybean | 5.0
Vegetable, root and tuber, group 1, except sugar beet | 0.2
Wasabi, roots | 0.2
Water spinach, tops | 0.2
Watercress, upland | 0.2
Wax jambu | 0.2
Wheat, bran | 20
Wheat, grain | 5.0
Wheat, middlings | 20
Wheat, shorts | 20
Yacon, tuber | 0.2

* * * * *

4. Section 180.369 is amended by designating the current text as paragraph (a) and adding the heading; by revising the table; and by adding and reserving paragraphs (b), (c), and (d) with headings to read as follows:

§ 180.369 Difenzoquat; tolerances for residues.

(a) General * * *

Commodity | Parts per million
Barley, bran | 0.25
Barley, grain | 0.05
Barley, straw | 5.0
Cattle, fat | 0.05
Cattle, meat | 0.05
Cattle, meat byproducts | 0.05
Goat, fat | 0.05
Goat, meat | 0.05
Goat, meat byproducts | 0.05
Hog, fat | 0.05
Hog, meat | 0.05
Hog, meat byproducts | 0.05
Horse, fat | 0.05
Horse, meat | 0.05
Horse, meat byproducts | 0.05
Poultry, fat | 0.05
Poultry, meat | 0.05
Poultry, meat byproducts | 0.05
Sheep, fat | 0.05
Sheep, meat | 0.05
Sheep, meat byproducts | 0.05
Wheat, bran | 0.25
Wheat, grain | 0.05
Wheat, shorts | 0.25
Wheat, straw | 5.0

(b) Section emergency exemptions. [Resereved]

(c) Tolerances with regional registrations. [Reserved]

(d) Indirect or inavertant residues. [Reserved]

5. In §180.396, paragraphs (a) and (c) are revised to read as follows:

§ 180.396 Hexazinone; tolerances for residues.

(a) General. (1) Tolerances are established for the combined residues of hexazinone (3-cyclohexyl-6-(dimethylamino)-1-methyl-1,3,5-triazine-2,4-(1H,3H)-dione and its plant metabolites; A [3-(4-hydroxycyclohexyl)-6-(dimethylamino)-1-methyl-1,3,5-triazine-2,4(1H,3H)-dione], B [3-cyclohexyl-6-(methylamino)-1-methyl-1,3,5-triazine-2,4-(1H,3H)-dione], C [3-(4-hydroxycyclohexyl)-6-(methylamino)-1-methyl-1,3,5-triazine-2,4-(1H,3H)-dione], D [3-cyclohexyl)-1-methyl-1,3,5-triazine-2,4,6-(1H,3H,5H)-trione], and E [3-(4-hydroxycyclohexyl)-1-methyl-1,3,5-triazine-2,4,6-(1H,3H,5H)-trione] (calculated as hexazinone) in the following commodities:

Commodity | Parts per million
Alfalfa, forage | 2.0
Alfalfa, hay | 8.0
Alfalfa, seed | 2.0
Blueberry | 0.6
Grass, hay | 10.0
Grass, forage | 10.0
Pineapple | 0.6

(2) Tolerances are established for the combined residues of hexazinone (3-cyclohexyl-6-(dimethylamino)-1-methyl-1,3,5-triazine-2,4-(1H,3H)-dione and its animal tissue metabolites; B [3-cyclohexyl-6-(methylamino)-1-methyl-1,3,5-triazine-2,4-(1H,3H)-dione], and F [3-cyclohexyl-6-amino-1-methyl-1,3,5-triazine-2,4-(1H,3H)-dione] (calculated as hexazinone) in the following food commodities:

Commodity | Parts per million
Cattle, meat | 0.1
Cattle, meat byproducts | 0.1
Goat, meat | 0.1
Goat, meat byproducts | 0.1
Horse, meat | 0.1
Horse, meat byproduct | 0.1
Sheep, meat | 0.1
Sheep, meat byproducts | 0.1

(3) Tolerances are established for the combined residues of hexazinone (3-cyclohexyl-6-(dimethylamino)-1-methyl-1,3,5-triazine-2,4-(1H,3H)-dione and its metabolites; B [3-cyclohexyl-6-(methylamino)-1-methyl-1,3,5-triazine-2,4-(1H,3H)-dione], C [3-(4-hydroxycyclohexyl)-6-(methylamino)-1-methyl-1,3,5-triazine-2,4-(1H,3H)-dione], C-1 [3-(2-hydroxycyclohexyl)-6-(methylamino)-1-methyl-1,3,5-triazine-2,4(1H,3H)-dione], C-2 [3-(3-hydroxycyclohexyl)-6-(methylamino)-1-methyl-1,3,5-triazine-2,4(1H,3H)-dione] and F [3-cyclohexyl-6-amino-1-methyl-1,3,5-triazine-2,4-(1H,3H)-dione] (calculated as hexazinone) in milk:

Commodity | Parts per million
Milk | 0.2

* * * * *

(c) Tolerances with regional registrations. Tolerances with regional registration, as defined in §180.1(n) and which excludes use of hexazinone on sugarcane in Florida, are established for the combined residues of hexazinone (3-cyclohexyl-6-(dimethylamino)-1-methyl-1,3,5-triazine-2,4-(1H,3H)-dione and its plant metabolites; A [3-(4-hydroxycyclohexyl)-6-(dimethylamino)-1-methyl-1,3,5-triazine-2,4(1H,3H)-dione], B [3-cyclohexyl-6-(methylamino)-1-methyl-1,3,5-triazine-2,4-(1H,3H)-dione], C [3-(4-hydroxycyclohexyl)-6-(methylamino)-1-methyl-1,3,5-triazine-2,4-(1H,3H)-dione], D [3-cyclohexyl)-1-methyl-1,3,5-triazine-2,4,6-(1H,3H,5H)-trione], and E [3-(4-hydroxycyclohexyl)-1-methyl-1,3,5-triazine-2,4,6-(1H,3H,5H)-trione] (calculated as hexazinone) in the following commodities:

Commodity | Parts per million
Sugarcane, cane | 0.6
Sugarcane, molasses | 4.0

* * * * *

[FR Doc. E6-8827 Filed 6-6-06; 8:45 am]

BILLING CODE 6560-50-S